DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register notice with a 60-day comment period soliciting comments on the following collection of information was published on March 1, 2002. No comments were received.

DATES: Comments must be submitted on or before July 15, 2002.

FOR FURTHER INFORMATION CONTACT: Kenneth Willis, 400 Seventh Street, Southwest, Washington, DC 20590. Telephone 202-366-2306; FAX 202-493-2180, or E-Mail: kenneth.willis@marad.dot.gov.

Copies of this collection can also be obtained from that office.

SUPPLEMENTARY INFORMATION: Maritime Administration (MARAD).

Title: Application and Reporting Elements for Participation in the Maritime Security Program.

OMB Control Number: 2133-0525.

Type of Request: Extension of currently approved collection.

Affected Public: Operators of U.S.-flag vessels who are interested in participating in the Maritime Security Fleet.

Form(s): None.

Abstract: The Maritime Security Act of 1996 established the Maritime Security Program which supports the operations of U.S.-flag vessels in the foreign commerce of the United States through assistance payments. Participating vessel operators receive assistance payments and are required to make their ships and other commercial transportation resources available to the Government during times of national emergency. The vessel operators who are interested in participating in the Maritime Security Fleet are required to submit an application to MARAD for its review and approval. MARAD uses this information to determine if selected vessels are qualified to participate in the Maritime Security Program.

Annual Estimated Burden Hours: 152 hours.

ADDRESSES: Send comments to the Office of Information and Regulatory Affairs, Office of Management and Budget, 725 17th Street, NW., Washington, DC 20503, Attention MARAD Desk Officer.

Comments are invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC on June 7, 2002.
Joel C. Richard,
Secretary, Maritime Administration.

[FR Doc. 02-15025 Filed 6-13-02; 8:45 am]

BILLING CODE 4910-81-P 1